FEDERAL COMMUNICATIONS COMMISSION

47 CFR Part 73

[DA 04-3806, MB Docket No. 04-426, RM-11125]

Radio Broadcasting Services; Beaumont and Mont Belvieu, TX

AGENCY: Federal Communications Commission.

ACTION: Proposed rule.

SUMMARY: This document seeks comment on a petition for rulemaking filed by Cumulus Licensing, LLC, licensee of Station KRWP(FM), Beaumont, Texas, proposing the reallotment of Channel 248C from Beaumont to Mont Belvieu, Texas, as the community's first local aural transmission service, and the modification of the license for Station KRWP(FM) to reflect the changes. Channel 248C has been proposed to be reallotted at Mont Belvieu at a site 50.1 kilometers (31.1 miles) east of the community at coordinates 29-41-52 NL and 94-24-09 WL.

DATES: Comments or counterproposals must be filed on or before January 31, 2005, and reply comments must be filed on or before February 15, 2005.

ADDRESSES: Secretary, Federal Communications Commission, 445 12th Street, SW., Room TW-A325, Washington, DC 20554. In addition to filing comments with the FCC, interested parties should serve the petitioner's counsel, as follows: Mark N. Lipp, Esq., Scott Woodworth, Esq., Vinson & Elkins LLP, 1455 Pennsylvania Ave., NW., Washington, DC 20004-1008.

FOR FURTHER INFORMATION CONTACT: Victoria M. McCauley, Media Bureau, (202) 418-2180.

SUPPLEMENTARY INFORMATION: This is a summary of the Commission's Notice of Proposed Rulemaking, MB Docket No. 04-426, adopted December 8, 2004, and released December 10, 2004. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 800-378-3160 or www.BCPIWEB.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Texas, is amended by removing Channel 248C1 at Beaumont and adding Mont Belvieu, Channel 248C.

Federal Communications Commission.
John A. Karousos,
Assistant Chief, Audio Division, Media Bureau.

[FR Doc. 04-28423 Filed 12-28-04; 8:45 am]

BILLING CODE 6712-01-P